DEPARTMENT OF COMMERCE

International Trade Administration

[A-570-601]

Tapered Roller Bearings and Parts Thereof, Finished and Unfinished From the People's Republic of China: Final Results of Antidumping Duty New Shipper Review

AGENCY: Import Administration, International Trade Administration, Department of Commerce.

DATES: Effective Date: October 30, 2012.

SUMMARY: On June 1, 2012, the Department of Commerce (the “Department”) published in the Federal Register the preliminary results of the antidumping duty new shipper review (NSR) of Tapered Roller Bearings and Parts Thereof, Finished and Unfinished (“TRBs”) from the People's Republic of China (“PRC”) covering sales of subject merchandise produced and exported by GGB Bearing Technology (Suzhou) Co., Ltd. (“GGB”) during the period of review (“POR”) of June 1, 2010, through May 31, 2011.¹ In accordance with 19 CFR 351.309(c)(ii), we gave interested parties an opportunity to comment on the Preliminary Results. Based on our analysis of the comments received, the Department has made changes to the Preliminary Results. The final weighted-average dumping margin for GGB is listed below in the section entitled “Final Results of the New Shipper Review.”

¹ See Tapered Roller Bearings and Parts Thereof, Finished and Unfinished From the People's Republic of China: Preliminary Results of Antidumping Duty New Shipper Review, 77 FR 32522 (June 1, 2012) (“Preliminary Results”).

FOR FURTHER INFORMATION CONTACT: Lori Apodaca or Jeff Pedersen, AD/CVD Operations, Office 4, Import Administration, International Trade Administration, U.S. Department of Commerce, 14th Street and Constitution Avenue NW., Washington, DC 20230; telephone: (202) 482-4551 or (202) 482-2769, respectively.

SUPPLEMENTARY INFORMATION: We published the Preliminary Results for this NSR on June 1, 2012. In the Preliminary Results, the Department stated that interested parties were to submit case briefs within 30 days of publication of the Preliminary Results and rebuttal briefs within five days after the due date for filing case briefs. On June 27, 2012, the Department extended the deadlines for the case briefs and rebuttal briefs until July 10, 2012 and July 16, 2012, respectively.² On July 10, 2012, the Department received case briefs from Petitioner and GGB. On July 16, 2012, the Department received rebuttal briefs from Petitioner and GGB.

² See Memorandum to All Interested Parties regarding, “Antidumping Duty New Shipper Review of Tapered Roller Bearings from the People's Republic of China: Request to Extend Deadlines for Case Briefs,” dated June 27, 2012.

Period of Review

The POR is June 1, 2010, through May 31, 2011.

Scope of the Order

Imports covered by the order are shipments of tapered roller bearings and parts thereof, finished and unfinished, from the PRC; flange, take up cartridge, and hanger units incorporating tapered roller bearings; and tapered roller housings (except pillow blocks) incorporating tapered rollers, with or without spindles, whether or not for automotive use. These products are currently classifiable under Harmonized Tariff Schedule of the United States (“HTSUS”) item numbers 8482.20.00, 8482.91.00.50, 8482.99.15, 8482.99.45, 8483.20.40, 8483.20.80, 8483.30.80, 8483.90.20, 8483.90.30, 8483.90.80, 8708.99.80.15 ³ and 8708.99.80.80.⁴ Although the HTSUS item numbers are provided for convenience and customs purposes, the written description of the scope of the order is dispositive.

³ Effective January 1, 2007, the HTSUS subheading 8708.99.8015 is renumbered as 8708.99.8115. See United States International Trade Commission (“USITC”) publication entitled, “Modifications to the Harmonized Tariff Schedule of the United States Under Section 1206 of the Omnibus Trade and Competitiveness Act of 1988,” USITC Publication 3898 (December 2006) found at www.usitc.gov.

⁴ Effective January 1, 2007, the HTSUS subheading 8708.99.8080 is renumbered as 8708.99.8180; see Id.

Analysis of Comments Received

All issues raised in the post-preliminary comments by parties in these reviews are addressed in the memorandum from Christian Marsh, Deputy Assistant Secretary for Antidumping and Countervailing Duty Operations, to Paul Piquado, Assistant Secretary for Import Administration, “Issues and Decision Memorandum for the Final Results of the New Shipper Review of the Antidumping Duty Order on Tapered Roller Bearings and Parts Thereof, Finished and Unfinished from the People's Republic of China,” dated October 19, 2012 (“Issues and Decision Memorandum”), which is hereby adopted by this notice. A list of the issues that parties raised and to which the Department responded in the Issues and Decision Memorandum is attached to this notice as an appendix. The Issues and Decision Memorandum is a public document and is on file in the Central Records Unit in room 7046 in the main Commerce Department building, and is also accessible on the Web at http://ia.ita.doc.gov/frn. The paper copy and electronic version of the memorandum are identical in content.

Changes Since the Preliminary Results

Based on our analysis of the comments received, we have made the following changes to our Preliminary Results:

• The normal value that was compared to U.S. price was calculated using certain factors of production that were reported on a per-kilogram basis while U.S. price was reported on a per-piece basis. In the final results, we corrected the dumping analysis to accurately reflect GGB's reported consumption of its inputs on a per-piece basis.⁵

⁵ See Issues and Decision Memorandum at Comment 1.

• We used the incorrect variable name for the entered value of the TRBs sold by GGB during the POR. In the final results, we corrected the variable name in the margin program to accurately reflect the reported variable name for entered value and corrected the assessment rate programming language.⁶

⁶ See Issues and Decision Memorandum at Comment 2.

• GGB reported a steel scrap by-product. We intended to grant an offset for this byproduct but made a clerical error in the Preliminary Results by not granting an offset for the steel scrap but rather, adding it to direct materials in the calculation of normal value. In the final results, we corrected the normal value calculation to include steel scrap as a by-product offset.⁷

⁷ See Issues and Decision Memorandum at Comment 3.

• We have recalculated surrogate financial ratios using different financial statements from those used in the Preliminary Results.⁸

⁸ See Issues and Decision Memorandum at Comment 4.

New Shipper Status

No party has contested the bona fide nature of GGB's sales during the POR. Therefore, for these final results, we find, as in the Preliminary Results, that the sales made by GGB during the POR of this NSR were made on a bona fide basis.

Surrogate Country

Since the Preliminary Results, no interested party has commented on the selection of Thailand as the primary surrogate country. Therefore, we continue to determine that Thailand is the appropriate primary surrogate country for the final results of this NSR.

Separate Rates

The Department found in the Preliminary Results that GGB was wholly foreign-owned, and, therefore, further analysis was not necessary to determine whether GGB's export activities are independent from government control.⁹ No party has contested the separate rate status of GGB during the POR. Therefore, for the final results, we continue to determine that GGB is eligible for a separate rate.

⁹ See Preliminary Results, 77 FR at 32523-24.

Final Results of the New Shipper Review

The Department has determined that the following weighted-average dumping margin exists for GGB for the period June 1, 2010, through May 31, 2011:

Exporter/producer | Weighted- average dumping margin (percent)
GGB Bearing Technology (Suzhou) Co., Ltd./GGB Bearing Technology (Suzhou) Co., Ltd. | 12.64

Disclosure

The Department will disclose the calculations performed for these final results to the parties within five days of the date of publication of this notice in accordance with 19 CFR 351.224(b).

Assessment Rates

Upon issuance of the final results, the Department will determine, and CBP shall assess, antidumping duties on all appropriate entries covered by this review. The Department intends to issue assessment instructions to CBP 15 days after the publication date of the final results of this review. Because GGB's weighted-average dumping margin is above de minimis, we will calculate importer-specific ad valorem antidumping duty assessment rates based on the ratio of the total amount of dumping calculated for each importer's examined sales to the total entered value of those same sales in accordance with 19 CFR 351.212(b)(1). In accordance with 19 CFR 351.106(c)(2), we will instruct CBP to liquidate without regard to antidumping duties the appropriate entries of subject merchandise during the POR for which the importer-specific assessment rate is zero or de minimis.

Cash Deposit Requirements

Consistent with Departmental practice in new shipper reviews, the Department has established a combination cash deposit rate for GGB as described below. The following cash deposit requirements will be effective upon publication of the final results of this NSR for all shipments of the subject merchandise entered, or withdrawn from warehouse, for consumption on or after the publication date, as provided for by section 751(a)(2)(C) of the Tariff Act of 1930, as amended (“the Act”): (1) For subject merchandise exported and produced by GGB, the cash deposit rate will be the rate established in the final results of this review; (2) for subject merchandise exported by GGB but not produced by GGB, the cash deposit rate will be the PRC-wide rate of 92.84 percent; (3) for subject merchandise produced by GGB but not exported by GGB, the cash deposit rate will be the rate applicable to the exporter; (4) for other previously investigated or reviewed PRC and non-PRC exporters that have separate rates, the cash deposit rate will continue to be the rate published for the most recently completed segment of this proceeding; (5) for all other PRC exporters of subject merchandise, the cash deposit rate will be the PRC-wide rate of 92.84 percent; and (6) for all non-PRC exporters of subject merchandise which have not received their own rate, the cash deposit rate will be the rate applicable to the PRC exporter(s) that supplied that non-PRC exporter. These deposit requirements, when imposed, shall remain in effect until further notice.

Notification to Interested Parties

This notice serves as a reminder to importers of their responsibility under 19 CFR 351.402(f)(2) to file a certificate regarding the reimbursement of antidumping duties prior to liquidation of the relevant entries during this POR. Failure to comply with this requirement could result in the Secretary's presumption that reimbursement of antidumping duties occurred and the subsequent assessment of double antidumping duties.

The Department is issuing and publishing this determination in accordance with sections 751(a)(2)(B) and 777(i) of the Act, and 19 CFR 351.214(h) and 351.221(b)(4).

Dated: October 19, 2012.
Paul Piquado,
Assistant Secretary for Import Administration.

[FR Doc. 2012-26665 Filed 10-29-12; 8:45 am]

BILLING CODE 3510-DS-P